DEPARTMENT OF EDUCATION

National Advisory Committee on Institutional Quality and Integrity, (National Advisory Committee); Notice of Meeting Changes

AGENCY: National Advisory Committee on Institutional Quality and Integrity, Department of Education.

SUMMARY: This notice advises interested parties of changes concerning the December 2004 meeting of the National Advisory Committee and amends information provided in the original meeting notice published in the October 14, 2004 Federal Register (69 FR 60991).

FOR FURTHER INFORMATION CONTACT: Ms. Bonnie LeBold, the Executive Director of the National Advisory Committee on Institutional Quality and Integrity, U.S. Department of Education, room 7007, MS 7592, 1990 K St., NW., Washington, DC 20006, telephone: (202) 219-7009, fax: (202) 219-7008, e-mail: Bonnie.LeBold@ed.gov. Individuals who use a telecommunications device for the deaf (TDD) may call the Federal Information Relay Service at 1-800-877-8339 between 8 a.m. and 8 p.m. Eastern time, Monday through Friday.

SUPPLEMENTARY INFORMATION: The changes to the agenda for the December 2004 meeting of the National Advisory Committee, to be held at the Ritz Carlton Hotel at Pentagon City, 1250 South Hayes Street, Arlington, VA, are as follows:

(1) On Monday, December 13, and Tuesday, December 14, 2004, the National Advisory Committee is now scheduled to meet from 8 a.m. to approximately 6 p.m. The National Advisory Committee will not meet on Wednesday, December 15, 2004.

(2) On Wednesday, December 15, the Accreditation and State Liaison Staff will provide an informational briefing on the new Web-based process for electronic submission of petitions for recognition. The briefing, which will include a question-and-answer session, will begin at 10 a.m. and end at approximately 11:30 a.m.

(3) The agency listed below, which was originally scheduled for review during the National Advisory Committee's December 2004 meeting, will be postponed for review until the Spring 2005 meeting.

1. The petition for renewal of recognition submitted by the National Accrediting Commission of Cosmetology Arts and Sciences (Current scope of recognition: The accreditation of postsecondary schools and departments of cosmetology arts and sciences and massage therapy.) (Requested scope of recognition: The accreditation of postsecondary schools and departments of cosmetology arts and sciences and massage therapy in the United States.)

How May I Obtain Electronic Access to This Document?

You may view this document, as well as all other Department of Education documents published in the Federal Register, in text or Adobe Portable Document Format (PDF) on the Internet at the following site: http://www.ed.gov/legislation/FedRegister. To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Authority: 5 U.S.C. Appendix 2.

Dated: November 29, 2004.
Sally L. Stroup,
Assistant Secretary for Postsecondary Education.

[FR Doc. E4-3454 Filed 12-2-04; 8:45 am]

BILLING CODE 4000-01-P